DEPARTMENT OF HOMELAND SECURITY

Coast Guard

33 CFR Part 100

[Docket No. USCG 2008-0200]

Special Local Regulation; Blessing of the Fleet, Corinthian Yacht Club, San Francisco Bay, CA

AGENCY: Coast Guard, DHS.

ACTION: Notice of enforcement of regulation.

SUMMARY: The Coast Guard will enforce the Blessing of the Fleet special local regulation from 8 a.m. to 11:59 a.m. on April 27, 2008. This action is necessary to control vessel traffic and to ensure the safety of event participants and spectators. During the enforcement period, no spectator shall anchor, block, loiter, nor impede the through transit of participants or official patrol vessels, in the regulated areas during all applicable effective dates and times, unless cleared to do so by or through an official patrol vessel.

DATES: The regulations in 33 CFR 100.1103 will be enforced from 8 a.m. to 11:59 a.m. on April 27, 2008.

FOR FURTHER INFORMATION CONTACT: Lieutenant Junior Grade Sheral Richardson, Waterways Management Branch, U.S. Coast Guard Sector San Francisco, at (415) 399-7436.

SUPPLEMENTARY INFORMATION: Under 5 U.S.C. 553(d)(3), the Coast Guard finds that good cause exists for giving notice of the enforcement date less than 30 days before the enforcement period goes into effect. Delaying notice of the enforcement date would be contrary to the public interest, since immediate action is needed to ensure the safety of the event participants, support vessels, spectator craft and other vessels transiting the event area. However advance notification of this recurring event is being given to users of San Francisco Bay via broadcast notice to mariners and yacht club newsletters.

The Coast Guard will enforce the special local regulation for the annual Blessing of the Fleet in 33 CFR 100.1103 on April 29, 2008, from 8 a.m. to 11:59 a.m. The special local regulation includes Raccoon Straits and can be defined by a line drawn from Bluff Point the southeastern side of Tiburon Peninsula to Point Campbell on the northern edge of Angel Island, and a line drawn from Peninsula Point on the southern edge of Tiburon Peninsula to Point Stuart on the western edge of Angel Island.

Under the provisions of 33 CFR 100.1103, no spectator shall anchor, block, loiter, nor impede the through transit of participants or official patrol vessels, in the regulated areas during all applicable effective dates and times, unless cleared to do so by or through an official patrol vessel. Additionally, when hailed and/or signaled by an official patrol vessel, any spectator located within a regulated area during all applicable effective dates and times shall come to an immediate stop. The Coast Guard may be assisted by other Federal, State, or local law enforcement agencies in enforcing this special local regulation.

This notice is issued under authority of 33 CFR 100.1103 and 5 U.S.C. 552(a). Even though this event is published in the Federal Register, if the Captain of the Port determines that the regulated area need not be enforced for the full duration stated in this notice, he or she may use a Broadcast Notice to Mariners to grant general permission to enter the regulated area.

Dated: April 4, 2008.
P.M. Gugg,
Captain, U.S. Coast Guard, Captain of the Port, Sector San Francisco.

[FR Doc. E8-8733 Filed 4-22-08; 8:45 am]

BILLING CODE 4910-15-P